DEPARTMENT OF THE INTERIOR

National Park Service

[NPS-WASO-NRNHL-DTS#-39226; PPWOCRADI0, PCU00RP14.R50000]

National Register of Historic Places; Notification of Pending Nominations and Related Actions

AGENCY: National Park Service, Interior.

ACTION: Notice.

SUMMARY: The National Park Service is soliciting electronic comments on the significance of properties nominated before December 7, 2024, for listing or related actions in the National Register of Historic Places.

DATES: Comments should be submitted electronically by January 3, 2025.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before December 7, 2024. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

Key: State, County, Property Name, Multiple Name (if applicable), Address/Boundary, City, Vicinity, Reference Number.

ALABAMA

Montgomery County

Peacock Tract Historic District, (The Civil Rights Movement in Montgomery, Alabama, 1850-1984 MPS), The district includes all or part of the following blocks: 1000 block Aaron Street 800-1000 blocks Adeline Street 2000 block Beach Street 800-1100 blocks Bragg Street 1100 block Broughton Street 600-700 block Bullock Street, Montgomery, MP100011302.

ARIZONA

Maricopa County

Tal'-Wi-Wi Ranch, 9801 N Litchfield Rd. and 9816 N Litchfield Rd., El Mirage vicinity, SG100011259.

ARKANSAS

Baxter County

Domino Shed, 9736 Arkansas Highway 14, Big Flat, SG100011298.

Uncle Willie Huffines Park, 11812 Arkansas Highway 14, Big Flat vicinity, SG100011299.

Benton County

Bentonville Post Office, 201 NE 2nd Street, Bentonville, SG100011312.

Clark County

John Duke Wells Health, Physical Education, and Recreation Building, 1192 M.H. Russell Drive, Arkadelphia, SG100011297.

Ross, Jane, House, 1049 Henderson Street, Arkadelphia, SG100011313.

Hot Spring County

L' Eau Frais Creek Bridge, L'Eau Fraiz Road over L' Eau Frais Creek, Malvern, SG100011291.

Polk County

Old U.S. 71 Ouachita River Bridges, Polk County Road 109 over the Ouachita River, Acorn, SG100011300.

Pulaski County

Steele-Dortch General Store, (Cotton and Rice Farm History and Architecture in the Arkansas Delta MPS), 4815 Arkansas Highway 161 South, Scott, MP100011294.

West 12th Street Overpass, West 12th Street over the Union Pacific Railroad Line, Little Rock, SG100011295.

West 14th Street Overpass, West 14th Street over the Union Pacific Railroad Line, Little Rock, SG100011296.

Tanner, James W. and Billie, House, (Arkansas Designs of E. Fay Jones MPS), 12821 Ridgehaven Road, Little Rock, MP100011314.

Searcy County

Brush Creek Bridge, Center Street over Brush Creek, Marshall, SG100011301.

CALIFORNIA

Alameda County

Southern Pacific 16th Street Station and 16th Street Tower, (African Americans in California, 1850-1974 MPS), 1798 16th Street, 1601 Wood Street and 1709 Wood Street (1405 Wood Street), Oakland, MP100011288.

Santa Barbara County

Saint Paul African Methodist Episcopal Church, Santa Barbara, (African Americans in California, 1850-1974 MPS), 502 Olive Street, Santa Barbara, MP100011289.

COLORADO

Pitkin County

Berger Cabin, 835 West Main Street, Aspen, SG100011303.

KANSAS

Reno County

Bernard's Restaurant and Catering, 2100 South Bonebrake Street, Hutchinson, SG100011284.

Shawnee County

Mount Auburn Cemetery, (African American Resources in Topeka, Shawnee County, Kansas MPS), 916 Southeast California Avenue, Topeka, MP100011285.

Second Missionary Baptist Church, (African American Resources in Topeka, Shawnee County, Kansas MPS), 416 and 424 NW Laurent Street, Shawnee, MP100011286.

KENTUCKY

Bullitt County

Camp Crescendo, 1480 Pine Tavern Rd., Lebanon Junction, SG100011306.

Fayette County

Luigart Malt House, 110 Luigart Court, 754-758 North Limestone, Lexington, SG100011307.

Jefferson County

Armour & Co. Branch House, 201 E Main St., Louisville, SG100011308.

Jessamine County

Glass Mill Complex, 1995 Glass Mill Road, Wilmore, SG100011310.

Kenton County

The Lubber House, 1205 Lee Street, Covington, SG100011311.

OHIO

Cuyahoga County

Fellowship Missionary Baptist Church, (Twentieth-Century African American Civil Rights Movement in Ohio MPS), 1754 E 55th Street, Cleveland, MP100011262.

SOUTH CAROLINA

Colleton County

Ruffin High and Elementary School, 155 Patriot Lane, Ruffin, SG100011263.

Richland County

Bellevue-Newman's Field-Gracelynn Terrace Historic District (Boundary Increase), Roughly bounded by Bull Street, Elmwood Avenue, Sumter Street, Marion Street and Grace Street, Columbia, BC100011282.

WISCONSIN

Milwaukee County

100 East Building, 100 East Wisconsin Avenue, Milwaukee, SG100011290.

Waukesha County

Clintonville Federal Savings and Loan Association, 60 10th Street, Clintonville, SG100011304.

A request for removal has been made for the following resource(s):

ALABAMA

Dallas County

Jackson, Sullivan & Richie Jean, House, (Civil Rights Movement in Selma, Alabama MPS), 1416 Lapsley Ave., Selma, OT13001033.

ARKANSAS

Perry County

South Fourche LaFave River Bridge, (Historic Bridges of Arkansas MPS), AR 7, Hollis vicinity, OT04001044.

Pulaski County

Bush House, (Thompson, Charles L., Design Collection TR), 1516 Ringo St., Little Rock, OT82000877.

MISSOURI

Buchanan County

Livestock Exchange Building, 601 Illinois Ave., St. Joseph, OT04000342.

Jackson County

National Garage, 1100-1110 McGee St., Kansas City, OT00000436.

Exchange Building, 1201-1207 Grand Blvd., Kansas City, OT03000524.

Knickerbocker Apartments, 501-535 Knickerbocker Place, Kansas City, OT03000525.

Holy Name Catholic Church, 2800 E 23rd St., Kansas City, OT03000964.

Blackstone Hotel, 817 Cherry St., Kansas City, OT03001057.

Alana Apartment Hotel, 2700-2706 Troost Ave. and 1015 E 27th St., Kansas City, OT06000543.

Smith and Sons Manufacturing Company Building, (Railroad Related Historic Commercial and Industrial Resources in Kansas City, Missouri MPS), 1400-26 Guinotte Ave., Kansas City, OT07001290.

Kansas City Public Library and Board of Education Building, 1211 McGee St., Kansas City, OT100001350.

Imperial Brewing Company Brewery, (Railroad Related Historic Commercial and Industrial Resources in Kansas City, Missouri MPS), 2825 Southwest Blvd., Kansas City, OT11000011.

Wiltshire Apartment Hotel, The, (Working-Class and Middle-Income Apartment Buildings in Kansas City, Missouri MPS), 703 E 10th St., Kansas City, OT14000377.

Grand Avenue Garage, 718 Grand Ave., Kansas City, OT14001238.

Westminister Congregational Church, 3600 Walnut St., Kansas City, OT80002369.

Fowler, Henry T., House, (Armour Boulevard MRA), 3 E Armour Blvd., Kansas City, OT83001004.

Ivanhoe Masonic Temple, 2301 E Linwood Blvd. and 3201 Park Ave., Kansas City, OT85000942.

Temple Block Building, 531 Walnut, Kansas City, OT85001344.

Gloyd Building, 921 Walnut, Kansas City, OT85001610.

An additional documentation has been received for the following resource(s):

DISTRICT OF COLUMBIA

District of Columbia

Lockkeeper's House, C & O Canal Extension (Additional Documentation), SW corner of 17th St. and Constitution Ave. NW, Washington, AD73000218.

KENTUCKY

Bourbon County

Millersburg Historic District (Additional Documentation), Roughly bounded by College Ave., Miller, Second, and Trigg Sts., Millersburg, AD86000697.

Jefferson County

Roosevelt, Theodore, Elementary School (Additional Documentation), 222 N 17th St., Louisville, AD82002719.

OHIO

Lake County

Boyce, Julia F. Country Estate (Additional Documentation), 37813-19 Euclid Ave., Willoughby, AD100009151.

SOUTH CAROLINA

Richland County

Bellevue-Newman's Field-Gracelynn Terrace Historic District (Additional Documentation), Roughly bounded by Sumter St., Anthony Ave., Bull St., and Elmwood Ave., Columbia, AD97001206.

Nomination(s) submitted by Federal Preservation Officers:

The State Historic Preservation Officer reviewed the following nomination(s) and responded to the Federal Preservation Officer within 45 days of receipt of the nomination(s) and supports listing the properties in the National Register of Historic Places.

COLORADO

Grand County

First Creek Ski Cabin, West of Highway 40 on Berthoud Pass near First Creek, Winter Park vicinity, SG100011315.

Authority: Section 60.13 of 36 CFR part 60.

Sherry A. Frear,
Chief, National Register of Historic Places/National Historic Landmarks Program.

[FR Doc. 2024-30214 Filed 12-18-24; 8:45 am]

BILLING CODE P